DEPARTMENT OF TRANSPORTATION

Federal Aviation Administration

Advisory Circular 21-12B, Application for U.S. Airworthiness Certificate, FAA Form 8130-6

AGENCY: Federal Aviation Administration (FAA), DOT.

ACTION: Notice of availability.

SUMMARY: This notice announces the availability of Advisory Circular (AC) 21-12B, Application for U.S. Airworthiness Certificate, FAA Form 8130-6. AC 21-12B provides information and guidance on the preparation of Form 8130-6. The form is completed to obtain an airworthiness certificate and for an amendment or modification to a current airworthiness certificate. This AC provides an acceptable means, but not the only means, of demonstrating compliance with the requirements of Title 14 Code of Federal Regulations part 21, Certification Procedures for Products and Parts, regarding application for a U.S. airworthiness certificate.

ADDRESSES: Copies of AC21-12B can be obtained from the following: U.S. Department of Transportation, Subsequent Distribution Office, Ardmore East Business Center, 3341 Q 75th Ave., Landover, MD 20785.

Issued in Washington, DC, on November 6, 2001.
Frank P. Paskiewicz,
Manager, Production and Airworthiness Division, AIR-200.

[FR Doc. 01-28380 Filed 11-9-01; 8:45 am]

BILLING CODE 4910-13-M